NUCLEAR REGULATORY COMMISSION

[NRC-2025-0414]

Information Collection: Nondiscrimination in Federally Assisted Programs or Activities Receiving Federal Financial Assistance From the Commission

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Nondiscrimination in Federally Assisted Programs or Activities Receiving Federal Financial Assistance from the Commission.”

DATES: Submit comments by January 30, 2026. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: Heather Dempsey, Acting NRC Clearance Officer, U.S. Nuclear Regulatory Commission, Washington, DC 20555-0001; telephone: 301-415-0856; email: Infocollects.Resource@nrc.gov.

SUPPLEMENTARY INFORMATION:

I. Obtaining Information and Submitting Comments

A. Obtaining Information

Please refer to Docket ID NRC-2025-0414 when contacting the NRC about the availability of information for this action. You may obtain publicly available information related to this action by any of the following methods:

• Federal Rulemaking Website: Go to https://www.regulations.gov and search for Docket ID NRC-2025-0414.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. A copy of the collection of information and related instructions may be obtained without charge by accessing ADAMS Accession Nos. ML25197A568 and ML25197A569. The supporting statement is available in ADAMS under Accession No. ML25337A334.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Acting Clearance Officer, Heather Dempsey, Office of the Chief Information Officer, U.S. Nuclear Regulatory Commission, Washington, DC 20555-0001; telephone: 301-415-0856; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “Nondiscrimination in Federally Assisted Programs or Activities Receiving Federal Financial Assistance from the Commission.” The NRC hereby informs potential respondents that an agency may not conduct or sponsor, and that a person is not required to respond to, a collection of information unless it displays a currently valid OMB control number.

The NRC published a Federal Register notice with a 60-day comment period on this information collection on September 9, 2025, 90 FR 43481.

1. The title of the information collection: Nondiscrimination in Federally Assisted Programs or Activities Receiving Federal Financial Assistance from the Commission.

2. OMB approval number: 3150-0053.

3. Type of submission: Revision.

4. The form number, if applicable: NRC Forms 781 and 782.

5. How often the collection is required or requested: NRC Form 781, “SBCR Compliance Review Part A,” is submitted upon initiation or modification of a program, during the pre-award and post-award stage, periodic monitoring, and, if a complaint is being processed. NRC Form 782, “Complaint Form,” is submitted on occasion, if any person believes himself or any specific class of individuals, have been subjected to discrimination prohibited by part 4 of title 10 of the Code of Federal Regulations (10 CFR), subpart A, “Regulations Implementing Title VI of the Civil Rights Act of 1964 and Title IV of the Energy Reorganization Act of 1974,” on behalf of the primary funding recipient or any other recipient that received NRC Federal financial assistance through the primary funding recipient. Self-evaluations are performed throughout the duration of obligation based on 10 CFR 4.231, “Responsibility of applicants and recipients.”

6. Who will be required or asked to respond: Recipients of Federal financial assistance provided by the NRC (including educational institutions, other nonprofit organizations receiving Federal assistance, and Agreement States).

7. The estimated number of annual responses: 502.

8. The estimated number of annual respondents: 200.

9. The estimated number of hours needed annually to comply with the information collection requirement or request: 802. (102 hours for reporting, 650 hours for recordkeeping, and 50 hours for third-party disclosures).

10. Abstract: All recipients of Federal financial assistance from the NRC are subject to the provisions of 10 CFR part 4, “Nondiscrimination in Federally Assisted Programs or Activities Receiving Federal Financial Assistance from the Commission.” Respondents must submit assurances of compliance with 10 CFR part 4 and a complete NRC Form 781, to demonstrate compliance with civil rights statutes and regulations, Executive Orders, White House education initiatives, and related provisions of the Energy Policy Act of 2005 for nondiscrimination with respect to race, color, national origin, sex, disability, or age. Respondents must also notify participants, beneficiaries, applicants, and employees of nondiscrimination practices and keep records of Federal financial assistance and of their own self-evaluations of policies and practices. In the event that discrimination is alleged in NRC-conducted and Federal financially assisted programs and activities, it may be reported using NRC Form 782.

Dated: December 23, 2025.
For the Nuclear Regulatory Commission.
David Cullison,
NRC Clearance Officer, Office of the Chief Information Officer.

[FR Doc. 2025-24024 Filed 12-30-25; 8:45 am]

BILLING CODE 7590-01-P